DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with July anniversary dates. In accordance with the Department's regulations, we are initiating those administrative reviews. The Department also received a request to revoke one antidumping duty order in part.

DATES: Effective Date: August 25, 2009.

FOR FURTHER INFORMATION CONTACT: Sheila E. Forbes, Office of AD/CVD Operations, Customs Unit, Import Administration, International Trade Administration, U.S. Department of Commerce, 14th Street and Constitution Avenue, NW, Washington, DC 20230, telephone: (202) 482-4697.

SUPPLEMENTARY INFORMATION:

Background

The Department has received timely requests, in accordance with 19 CFR 351.213(b), for administrative reviews of various antidumping and countervailing duty orders and findings with July anniversary dates. The Department also received a timely request to revoke in part the antidumping duty order on Certain Frozen Warmwater Shrimp from India with respect to one producer/exporter.

Notice of No Sales

Under 19 CFR 351.213(d)(3), the Department may rescind a review where there are no exports, sales, or entries of subject merchandise during the respective period of review (“POR”) listed below. If a producer or exporter named in this initiation notice had no exports, sales, or entries during the POR, it should notify the Department within 30 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW, Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within five days of publication of this initiation notice and to make our decision regarding respondent selection within 20 days of publication of this Federal Register notice.

The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2,1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's website at http://www.trade.gov/ia on the date of publication of this Federal Register. In responding to the certification, please follow the “Instructions for Filing the Certification” in the Separate Rate Certification. Separate Rate Certifications are due to the Department no later than 30 calendar days of publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's website at http://ia.ita.doc.gov/nme/nme-sep-rate.html on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceedings (e.g., an ongoing administrative review, new shipper review, etc.) and entities that lost their separate rate in the most recently complete segment of the proceeding in which they participated.

² Only changes to the official company name, rather than trade names, need to be addressed via a Separate Rate Application. Information regarding new trade names may be submitted via a Separate Rate Application.

For exporters and producers who submit a separate-rate status application or certification and subsequently are selected as mandatory respondents, these exporters and producers will no longer be eligible for separate-rate status unless they respond to all parts of the questionnaire as mandatory respondents.

Initiation of Reviews

In accordance with 19 CFR 351.221(c)(1)(i), we are initiating administrative reviews of the following antidumping and countervailing duty orders and findings. We intend to issue the final results of these reviews not later than July 31, 2010.

Antidumping Duty Proceedings | Period to be Reviewed
FINLAND: Purified Carboxymethylcellulose
A-405-803 | 7/1/08 - 6/30/09
CP Kelco Oy
INDIA: Certain Frozen Warmwater Shrimp³
A-533-840 | 2/1/08 - 1/31/09
INDIA: Polyethylene Terephthalate (PET) Film
A-533-824 | 7/1/08 - 6/30/09
Jindal Poly Films Limited of India
ITALY: Certain Pasta
A-475-818 | 7/1/08 - 6/30/09
Domenico Paone fu Erasmo S.p.A.
Fasolino Foods Company, Inc. and its affiliate Euro-American Foods Group, Inc.
Industria Alimentare Colavita, S.p.A.
P.A.M. S.p.A.
Pasta Lensi S.r.l.
Pastificio Attilio Mastromauro-Pasta Granoro S.r.L
Pastificio Lucio Garafalo S.p.A.
MEXICO: Purified Carboxymethylcellulose
A-201-834 | 7/1/08 - 6/30/09
Quimica Amtex, S.A. de C.V.
MEXICO: Stainless Steel Sheet and Strip in Coils
A-201-822 | 7/1/08 - 6/30/09
ThyssenKrupp Mexinox S.A. de C.V.
RUSSIAN FEDERATION: Solid Urea
A-821-801 | 7/1/08 - 6/30/09
OJSC MCC EuroChem, and production affiliates, OJSC Nevinnomyssky Azot And OJSC Novomoskovskaya Azot
TAIWAN: Polyethylene Terephthalate Film, Sheet and Strip
A-583-837 | 7/1/08 - 6/30/09
NanYa Plastics Corporation, Ltd.
Shinkong Synthetic Fibers Corporation
TAIWAN: Stainless Steel Sheet and Strip in Coils
A-583-831 | 7/1/08 - 6/30/09
Ta Chen Stainless Pipe Co., Ltd.
Chia Far Industrial Factory Co., Ltd.
China Steel Corporation
Dah Shi Metal Industrial Co., Ltd.
KNS Enterprise Co., Ltd.
Lih Chan Steel Co., Ltd.
Tang Eng Iron Works
PFP Taiwan Co., Ltd.
Yieh Loong Enterprise Co., Ltd. (aka Chung Hung Steel Co., Ltd.)
Yieh Trading Corp.
Tibest International, Inc.
Goang Jau Shing Enterprise Co., Ltd.
Yieh Mau Corp.
Maytun International Corp.
Shih Yuan Stainless Steel Enterprise Co., Ltd.
Chien Shing Stainless Co.
Chain Chon Industrial Co., Ltd.
Emerdex Stainless Flat-Rolled Products, Inc.
Emerdex Stainless Steel, Inc.
Emerdex Group
Waterson Corp.
Yieh United Steel Corporation
Tung Mung Development Co., Ltd./Ta Chen Stainless Pipe Co., Ltd.⁴
THE NETHERLANDS: Purified Carboxymethylcellulose
A-421-811 | 7/1/08 - 6/30/09
CP Kelco BV
Akzo Nobel Functional Chemicals, B.V.
THE PEOPLE'S REPUBLIC OF CHINA: Circular Welded Carbon Quality Steel Pipe⁵
A-570-910 | 1/15/08 - 6/30/09
Baoshan Iron & Steel Co., Ltd.
Jiangsu Yulong Steel Pipe Co., Ltd.
Liaoning Northern Steel Pipe Co., Ltd.
Hunan Hengyang Steel Tube (Group) Co., Ltd.
CNOOC Kingland Pipeline Co., Ltd.
Jiangsu Changbao Steel Tube Co., Ltd.
Wuxi Fastube Industry Co., Ltd.
Weifang East Steel Pipe Co., Ltd.
Tianjin Shuangjie Steel Pipe Co., Ltd.
Zhejiang Kingland Pipeline Industry Co., Ltd.
SteelFORCE Far East Ltd.
Tianjin Baolai International Trade Co., Ltd.
Shanghai Zhongyou TIPO Steel Pipe Co., Ltd.
Sino Link SCS (Asia) Limited
THE PEOPLE'S REPUBLIC OF CHINA: Persulfates⁶
A-570-847 | 7/1/08 - 6/30/09
Shanghai AJ Import & Export Corporation
United Initiators (Shanghai) Co., Ltd. (previously known as Degussa-AJ (Shanghai) Initiators Co., Ltd.)
THE PEOPLE'S REPUBLIC OF CHINA: Saccharin⁷
A-570-878 | 7/1/08 - 6/30/09
Keifeng Xinhua Fine Chemical Factory
Shanghai Fortune Chemical Co., Ltd.
Countervailing Duty Proceedings
INDIA: Polyethylene Terephthalate (PET) Film
C-533-825 | 1/1/08 - 12/31/08
Jindal Poly Films Limited of India
ITALY: Certain Pasta
C-475-819 | 1/1/08 - 12/31/08
Agritalia S.r.L.
De Matteis Agroalimentare S.p.A.
F. Divella S.p.A.
F.lli De Cecco di Filippo Fara San Martino S.p.A.
Pastificio Lucio Garofalo S.p.A.
THE PEOPLE'S REPUBLIC OF CHINA: Circular Welded Carbon Quality Steel Pipe
C-570-911 | 11/13/07 - 12/31/08
Baoshan Iron & Steel Co., Ltd.
Jiangsu Yulong Steel Pipe Co., Ltd.
Liaoning Northern Steel Pipe Co., Ltd.
Hunan Hengyang Steel Tube (Group) Co., Ltd.
CNOOC Kingland Pipeline Co., Ltd.
Jiangsu Changbao Steel Tube Co., Ltd.
Wuxi Fastube Industry Co., Ltd.
Weifang East Steel Pipe Co., Ltd.
Tianjin Shuangjie Steel Pipe Co., Ltd.
Zhejiang Kingland Pipeline Industry Co., Ltd.
Suspension Agreements
None.
³ On April 7, 2009, the Department published a notice of initiation of administrative reviews for the orders covering certain frozen warmwater shrimp (shrimp) from Brazil, India, and Thailand. See Certain Frozen Warmwater Shrimp from Brazil, India and Thailand: Notice of Initiation of Administrative Reviews, 74 FR 15699 (April 7, 2009). This notice should have also indicated that the Department received a timely request to revoke, in part, the antidumping duty order on shrimp from India with respect to Devi Sea Foods Limited, an exporter and producer of shrimp from India.
⁴ The Department received a request for an administrative review of the antidumping order on stainless steel sheet and strip in coils (“SSSSC”) from Taiwan with respect to Tung Mung Development Co., Ltd. (“Tung Mung”) (as to subject merchandise as set forth in Notice of Amended Final Determination in Accordance With Court Decision of the Antidumping Duty Investigation of Stainless Steel Sheet and Strip in Coils From Taiwan, 69 FR 67311 (Nov. 17, 2004)). SSSSC produced and exported by Tung Mung was excluded from this order effective October 16, 2002. Id. However, exports of SSSSC produced by Tung Mung and exported to the United States by Ta Chen Stainless Pipe Co., Ltd. (“Ta Chen”) remain subject to the order, and thus this administrative review covers exports of SSSSC produced by Tung Mung in Taiwan and exported to the United States by Ta Chen.
⁵ If one of the above named companies does not qualify for a separate rate, all other exporters of Circular Welded Carbon Quality Steel Pipe from the People's Republic of China (“PRC”) who have not qualified for a separate rate are deemed to be covered by this review as part of the single PRC entity of which the named exporters are a part.
⁶ If one of the above named companies does not qualify for a separate rate, all other exporters of Persulfates from the PRC who have not qualified for a separate rate are deemed to be covered by this review as part of the single PRC entity of which the named exporters are a part.
⁷ If one of the above named companies does not qualify for a separate rate, all other exporters of Saccahrin from the PRC who have not qualified for a separate rate are deemed to be covered by this review as part of the single PRC entity of which the named exporters are a part.

During any administrative review covering all or part of a period falling between the first and second or third and fourth anniversary of the publication of an antidumping order under 19 CFR 351.211 or a determination under 19 CFR 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 USC 1675(a)) and 19 CFR 351.221(c)(1)(i).

Dated: August 19, 2009.
John M. Andersen,
Acting Deputy Assistant Secretary for Antidumping and Countervailing Duty Operations.

[FR Doc. E9-20500 Filed 8-24-09; 8:45 am]

BILLING CODE 3510-DS-S